DEPARTMENT OF DEFENSE

GENERAL SERVICES ADMINISTRATION

NATIONAL AERONAUTICS AND SPACE ADMINISTRATION

[OMB Control No. 9000-0047; Docket No. 2024-0053; Sequence No. 4]

Submission for OMB Review; Place of Performance

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding place of performance.

DATES: Submit comments on or before May 13, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Zenaida Delgado, Procurement Analyst, at telephone 202-969-7207, or zenaida.delgado@gsa.gov.

SUPPLEMENTARY INFORMATION:

A. OMB Control Number, Title, and Any Associated Form(s)

OMB Control No. 9000-0047, Place of Performance.

B. Need and Uses

This clearance covers the information that bidders or offerors must submit to comply with the following Federal Acquisition Regulation (FAR) requirements:

• FAR 52.214-14, Place of Performance-Sealed Bidding.

This FAR provision is prescribed for invitation for bids (i.e., FAR part 14 procurements) where the Government did not specify the place of performance.

• FAR 52.215-6, Place of Performance.

This FAR provision is prescribed for solicitations, when contracting by negotiation (i.e., FAR part 15 procurements), where the Government did not specify the place of performance.

Both provisions ask for identical information from bidders or offerors: whether or not they intend to use one or more plants or facilities located at a different address from the address of the bidder or offeror as indicated in their bid or offer. If the response indicates the intention to use plants or facilities located at a different location than the bidder's or offeror's address, the provisions require that bidders or offerors provide the address(es) of the other place(s) of performance, along with name and address of the owner and operator of such plant or facility (if other than the bidder or offeror).

Contracting officers use the place of performance and the owner of the plant or facility to—

(a) Determine prospective contractor responsibility;

(b) Determine price reasonableness;

(c) Conduct plant or source inspections; and

(d) Determine whether the prospective contractor is a manufacturer or a regular dealer.

C. Annual Burden

Respondents: 6,086.

Total Annual Responses: 964,331.

Total Burden Hours: 43,877.

D. Public Comment

A 60-day notice was published in the Federal Register at 89 FR 8200, on February 6, 2024. No comments were received.

Obtaining Copies: Requesters may obtain a copy of the information collection documents from the GSA Regulatory Secretariat Division by calling 202-501-4755 or emailing GSARegSec@gsa.gov. Please cite OMB Control No. 9000-0047, Place of Performance.

Janet Fry,
Director, Federal Acquisition Policy Division, Office of Governmentwide Acquisition Policy, Office of Acquisition Policy, Office of Governmentwide Policy.

[FR Doc. 2024-07822 Filed 4-11-24; 8:45 am]

BILLING CODE 6820-EP-P